ENVIRONMENTAL PROTECTION AGENCY

40 CFR Part 261

[EPA-R02-RCRA-2021-0026; FRL-10019-81-Region 2]

Hazardous Waste Management System: Identification and Listing of Hazardous Waste; Final Rule

AGENCY: Environmental Protection Agency (EPA).

ACTION: Final rule.

SUMMARY: The EPA is removing an exclusion granting Watervliet Arsenal to delist the electroplating wastewater treatment sludges (EPA Hazardous Waste No. F006) generated by the Watervliet, New York facility from the lists of hazardous wastes. This action revises the final rule published on January 10, 1986. The EPA has received information from the facility indicating the present treatment process at the facility and waste currently generated at the facility differ from those for which the Arsenal's original petition was submitted. In light of this, the Arsenal has requested that EPA withdraw the prior delisting rule. Based on its understanding of the changes at the facility, EPA is granting that request and removing the previously published delisting. Removal of the prior delisting rule does not preclude Watervliet Arsenal from submitting a new delisting petition.

DATES: This rule is effective on March 26, 2021.

FOR FURTHER INFORMATION CONTACT: Carlyn Chappel, U.S. EPA Region 2, Land, Chemical and Redevelopment Division (25TH FL), U.S. Environmental Protection Agency, 290 Broadway, New York, NY 10007-1866; telephone number: (212) 637-4104; email address: chappel.carlyn@epa.gov.

SUPPLEMENTARY INFORMATION: On January 10, 1986, at 57 FR 1253, the EPA finalized an exclusion from the list of hazardous wastes for Watervliet Arsenal in Watervliet, New York. EPA has received information from the facility indicating a change to its wastewater treatment process. The sulfur dioxide (SO2) treatment process is being discontinued and converted to a sodium bisulfite treatment process as the primary industrial wastewater treatment plant (IWTP) system. The process and nature of sludge generated from the converted IWTP differs from what was described in the delisting petition submitted on Dec. 22, 1982 for the electroplating wastewater treatment sludges (EPA Hazardous Waste Code No. F006). Watervliet Arsenal has submitted a request to EPA on July 29, 2020 to formally withdraw the existing 1986 wastewater treatment sludge RCRA delisting rule previously issued for its facility. EPA acknowledges receipt of the information about these changes at the facility and the Arsenal's request. The Watervliet Arsenal, Watervliet, New York exclusion found in 40 CFR part 261, appendix IX, Table 1 will be removed from the Code of Federal Regulations. The text being removed currently reads: “Wastewater treatment sludges (EPA Hazardous Waste No. F006) generated from electroplating operations after January 10, 1986.”

List of Subjects in 40 CFR Part 261

Environmental protection, Hazardous waste, Recycling, Reporting and recordkeeping Requirements.

Dated: March 15, 2021.
Walter Mugdan,
Acting Regional Administrator, EPA Region 2.

For the reasons set forth in the preamble, title 40, Chapter I of the Code of Federal Regulations is amended as follows:

PART 261—IDENTIFICATION AND LISTING OF HAZARDOUS WASTE

1. The authority citation for part 261 continues to read as follows:

Authority: 42 U.S.C. 6905, 6912(a), 6921, 6922 and 6938.

Appendix IX to Part 261—[Amended]

2. In Appendix IX to part 261, amend Table 1 by removing the entry for “Watervliet Arsenal”.

[FR Doc. 2021-06003 Filed 3-25-21; 8:45 am]

BILLING CODE 6560-50-P